DEPARTMENT OF TRANSPORTATION

Federal Aviation Administration

Parts Manufacturer Approval Procedures Revision

AGENCY: Federal Aviation Administration DOT.

ACTION: Notice of availability and request for public comment.

SUMMARY: This notice announces the availability of and requests public comments on the proposed revision of Federal Aviation Administration (FAA) Order 8110.42, Parts Manufacturer Approval Procedures. This document establishes procedures for the evaluation and approval of replacement and modification parts for use on type-certificated products. The proposed revision retains the airworthiness standards in Title 14 of the Code of Federal Regulations (14 CFR) part 21 21.303.

DATES: Comments must be received on or before September 24, 2004.

ADDRESSES: Send all comments on the proposed revision to FAA Order 8110.42 to: Federal Aviation Administration, Aircraft Certification Service, Aircraft Engineering Division, Room 815, 800 Independence Avenue, SW., Washington, DC 20591. ATTN: John Milewski, AIR-110. You may deliver comments to: Federal Aviation Administration, Room 815, 800 Independence Avenue, SW., Washington, DC, 20591, or electronically submit comments to the following Internet address: 9-AWA-AVR-AIR-PMA-Comments@faa.gov. Include in the subject line of your message the title of the document, Comments “FAA Order 8110.42, Parts Manufacturer Approval Procedures.”

FOR FURTHER INFORMATION CONTACT: John Milewski, Aerospace Engineer, Federal Aviation Administration, Aircraft Certification Service, Aircraft Engineering Division, Certification Procedures Branch, AIR-110, Room 815, 800 Independence Avenue, SW., Washington, DC 20591. Telephone (202) 267-3411, FAX (202) 267-5340, or e-mail at: john.milewski@faa.gov.

SUPPLEMENTARY INFORMATION:

Comments Invited

You are invited to comment on the draft order listed in this notice by sending such written data, views, or arguments to the above listed address. Please identify “Parts Manufacturer Approval Procedures” as the subject of your comments. You may also examine comments received on the proposals before and after the comment closing date at the FAA Headquarters Building, Room 815, 800 Independence Avenue, SW., Washington, DC 20591, weekdays except Federal holidays, between 8:30 a.m. and 4:30 p.m. The Director of the Aircraft Certification Service will consider all communications received on or before the closing date before implementing the revision.

Background

The draft order clarifies policy, language and simplifies format. Also the draft order adds examples, expands on the test and computation method and provides more guidance on reverse engineering. New appendices and text reemphasize the roles of Designated Engineering Representatives in the design approval process beyond findings of identicality. Other new appendices list the varied uses of “critical” in the context of aircraft parts, as well as, provide guidance on statistical sampling in a quality system. The proposed draft does not change existing policies. The FAA developed this draft based on industry proposals to engender a consistent approval process for aircraft parts.

How To Obtain Copies

You can get an electronic copy via the Internet at http://www.faa.gov/certification/aircraft/DraftDoc/Comments.htm or by contacting the person named in the paragraph FOR FURTHER INFORMATION CONTACT.

Issued in Washington, DC, on August 18, 2004.
Susan J.M. Cabler,
Assistant Manager, Aircraft Engineering Division, Aircraft Certification Service.

[FR Doc. 04-19457 Filed 8-24-04; 8:45 am]

BILLING CODE 4910-13-M